DEPARTMENT OF ENERGY

Federal Energy Regulatory Commission

[Project No. 733-010 Colorado]

Eric Jacobson; Notice of Availability of Environmental Assessment

March 6, 2009.

In accordance with the National Environmental Policy Act of 1969 and the Federal Energy Regulatory Commission's (Commission) regulations, 18 CFR Part 380 (Order No. 486, 52 FR 47897), the Office of Energy Projects has reviewed the application for license for the existing Ouray Hydroelectric Project, located on the Uncompahgre River in Ouray County, Colorado, and has prepared an Environmental Assessment (EA) for the project. The project currently occupies 4.38 acres of federal lands in the Uncompahgre National Forest managed by the U.S. Forest Service.

The EA contains Commission staff's analysis of the potential environmental effects of the project and concludes that licensing the project, with appropriate environmental protective measures, would not constitute a major federal action that would significantly affect the quality of the human environment.

A copy of the EA is available for review at the Commission in the Public Reference Room or may be viewed on the Commission's Web site at http://www.ferc.gov using the “eLibrary” link. Enter the docket number, excluding the last three digits in the docket number field, to access the document. For assistance, contact FERC Online Support at FERCOnlineSupport@ferc.gov or toll-free at (866) 208-3676, or for TTY, (202) 502-8659.

You may also register online at http://ferc.gov/docs-filing/esubscription.asp to be notified via e-mail of new filings and issuances related to this or other pending projects. For assistance, contact FERC Online Support.

Any comments on this EA should be filed within 30 days of the date of this notice and should be addressed to: Kimberly D. Bose, Secretary, Federal Energy Regulatory Commission, 888 First Street, NE., Washington, DC 20426. Please affix Project No. 733-010 to all comments. Comments may be filed electronically via the Internet in lieu of paper. The Commission strongly encourages electronic filings. See 18 CFR 385.2001(a)(1)(iii) and the instructions on the Commission's Web site http://www.ferc.gov) under the “e-Filing” link.

Procedural schedule: Please note that the license application for this project will be processed according to the following revised Hydro Licensing Schedule. Revisions to the schedule will be made as appropriate.

Milestone | Target date
FERC issues single environmental assessment (EA) | March 6, 2009.
All stakeholders: EA comments due | April 6, 2009.
All stakeholders: modified terms and conditions due | June 5, 2009.

For further information, contact Steve Hocking at (202) 502-8753 or steve.hocking@ferc.gov.

Kimberly D. Bose,
Secretary.

[FR Doc. E9-5432 Filed 3-12-09; 8:45 am]

BILLING CODE 6717-01-P